DEPARTMENT OF HEALTH AND HUMAN SERVICES

Substance Abuse and Mental Health Services Administration

Agency Information Collection Activities: Proposed Collection; Comment Request

In compliance with section 3506(c)(2)(A) of the Paperwork Reduction Act of 1995 concerning opportunity for public comment on proposed collections of information, the Substance Abuse and Mental Health Services Administration will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: National Suicide Prevention Lifeline—Call Log—NEW

The Substance Abuse and Mental Health Services Administration's (SAMHSA), Center for Mental Health Services funds a National Suicide Prevention Lifeline Network, a system of toll-free telephone numbers that routes calls from anywhere in the United States to a network of more than 125 certified crisis centers that can link callers to local emergency, mental health, and social service resources. The technology permits calls to be directed immediately to a suicide prevention worker who is geographically closest to the caller.

Through its grantee which is administering the National Suicide Prevention Lifeline Network, SAMHSA developed a Call Log in an effort to monitor basic trends in calls received. The completed Call Logs will inform the Network's planning around enhancing services provided by networked crisis centers and training provided to crisis counselors; increasing Lifeline's accessibility to people at risk for suicidal behavior; and optimizing public health efforts to prevent suicide and suicidal behavior.

All 125 networked crisis centers will be invited to complete the Call Logs. Crisis centers that are already collecting all or most of the information on the Call Log will have the option of extracting compatible data from their own software systems and reporting on a monthly basis.

All other crisis centers will have the option of completing the Call Log in either a Web-based or hardcopy format. Trained crisis counselors will be able to complete the majority of Log items during the course of the call, without asking the caller specific questions. They may also choose to fill out the form at the conclusion of individual calls. Completing the form entails asking callers a few basic questions (e.g., age; race; ethnicity; whether they ever served in the U.S. military; how they heard about the Lifeline service). No identifiable information will be collected.

The estimated annual response burden ¹ to collect this information is as follows:

Type of respondent | Number of respondents | Responses per respondent | Total responses | Hours per response | Total hour burden per respondent | Total hour burden, all respondents
IT Worker (extract, reformat, upload; ACCs) | ² 100 | 12 | 1,200 | .5 | 6 | 600
Caller (question response; NCCs) | ³ 26,640 | 1 | 26,640 | .05 | .05 | 1,332
Volunteer Crisis Counselor (form completion; NCCs) | ⁴ 375 | ⁵ 36 | 13,500 | .08 | 2.9 | 1,088
Paid Staff Crisis Counselor (form completion; NCCs) | 375 | 36 | 13,500 | .08 | 2.9 | 1,088
Total | 27,490 |  | 54,840 |  |  | 4,108
¹ Estimates based on 444,000 calls annually.
² 100 (80%) of the networked crisis centers currently collect this data electronically (automated crisis centers or ACCs). An IT worker would need to extract, reformat, and upload those records monthly.
³ 25 (20%) of the networked crisis centers do not currently collect this data (non-automated crisis centers or NCCs) and counselors would therefore need to ask Callers questions from the Call Log. A 30% response rate is anticipated. 444,000 total annual calls × (20% of the centers) = 88,800 annual calls answered by NCCs × (30% response rate) = 26,640 Call Logs completed by NCCs.
⁴ Estimate based on crisis centers' average staffing level of 30 counselors, 50% (15) of whom are volunteer. 25 non-automated centers × 15 volunteer counselors = 375 volunteer counselors.
⁵ Estimate assumes that incoming calls will be equally divided among volunteer and paid counselors. 26,640 calls ÷ 750 total counselors = 36 calls per counselor.

Send comments to Summer King, SAMHSA Reports Clearance Officer, Room 7-1044, 1 Choke Cherry Road, Rockville, MD 20850. Written comments should be received by May 19, 2008.

Dated: March 12, 2008.
Elaine Parry,
Acting Director, Office of Program Services.

[FR Doc. E8-5493 Filed 3-18-08; 8:45 am]

BILLING CODE 4162-20-P